DEPARTMENT OF TRANSPORTATION

Federal Aviation Administration

Notice of Availability of a Draft Environmental Assessment for a Proposed Airport Traffic Control Tower and Base Building, Toledo Express Airport, Swanton, OH

AGENCY: Federal Aviation Administration (FAA), DOT.

ACTION: Notice of availability of a draft environmental assessment for a proposed airport traffic control tower and base building, Toledo Express Airport, Swanton, OH.

SUMMARY: The Federal Aviation Administration (FAA) proposes to fund, construct, and operate a new Airport Traffic Control Tower (ATCT) and Base Building at the Toledo Express Airport (TOL), Swanton, Ohio. The existing TOL ATCT and collocated Terminal Radar Approach Control facility are outdated and outmoded. The FAA's preferred alternative is to construct the ATCT at a location located near the airport terminal building and approximately 1,000 feet west of the existing ATCT facility. The purpose and need of the proposed project is to improve visibility of airport surfaces, provide adequate space to improve operational and administrative efficiency, increase the efficient functionality of the facility, and have the capability to meet future operational and administrative expansion requirements. The FAA has prepared a Draft Environmental Assessment (DEA) in conformance with the requirements of the National Environmental Policy Act of 1969 (NEPA) and FAA Order 1050.1E, Environmental Impacts: Policies and Procedures. The DEA analyzes the potential environmental impacts that may result from construction and operation of the proposed new ATCT and Base Building at the proposed site, as well as the no action alternative (i.e., not constructing and operating the ATCT). Ancillary actions that would be taken in order to maintain optimal operational characteristics include replacement of the current Runway 25 Localizer (LOC) antenna and shelter with a Mark 20 or Mark 20A LOC antenna and shelter, and relocation of the Runway 25 LOC antenna array to a location 1,070 feet outward from the Runway 07 threshold, relocation of the Moving Target Indicator reflector and the upgrade of electronics for the Runway 25 Glide Slope. The DEA is available for public review during a 30-day public comment period at Swanton Pubic Library, 305 Chestnut Street, Swanton, Ohio 43558.

ADDRESSES: The FAA will accept written comments on the DEA until close of business on September 21, 2011. Comments on the DEA may be sent to: Ms. Virginia Marcks, Manager, AJW-C14D, FAA, 2300 East Devon Ave., Des Plaines, IL 60018, fax 847-294-7698, e-mail virginia.marcks@faa.gov. Copies of the Draft EA on compact disk may be obtained by contacting Ms. Virginia Marcks. Comments received on the DEA during the public comment period will be addressed in a Final Environmental Assessment.

FOR FURTHER INFORMATION CONTACT: Ms. Virginia Marcks, Manager, Infrastructure Engineering Center, Federal Aviation Administration, 2300 East Devon Avenue, Des Plaines, Illinois 60018. Telephone number: 847-294-7494. E-mail: virginia.marcks@faa.gov.

Issued in Des Plaines, Illinois, August 9, 2011.
Virginia Marcks,
Manager, Infrastructure Engineering Center, Chicago, AJW-C14D, Central Service Area.

[FR Doc. 2011-20750 Filed 8-15-11; 8:45 am]

BILLING CODE 4910-13-P